DEPARTMENT OF HEALTH AND HUMAN SERVICES

National Biodefense Science Board Public Meeting

AGENCY: Administration for Strategic Preparedness and Response (ASPR), Department of Health and Human Services (HHS).

ACTION: Notice.

SUMMARY: The National Biodefense Science Board (NBSB or the Board), authorized under the Public Health Service (PHS) Act, as added by the Pandemic and All-Hazards Preparedness Act of 2006 and amended by the Pandemic and All-Hazards Preparedness Reauthorization Act, will hold a virtual, public meeting on May 4, 2023, at 2:00 p.m. ET. The NBSB, managed and operated by the ASPR, provides expert advice and guidance to the Secretary of HHS regarding current and future chemical, biological, radiological, and nuclear threats, and other disaster preparedness and response matters. A detailed agenda and Zoom registration instructions will be available on the ASPR/NBSB public meeting web page at least 10 days in advance of the meeting.

FOR FURTHER INFORMATION CONTACT: CAPT Christopher Perdue, NBSB Designated Federal Official, via email message to NBSB@hhs.gov or (202) 480-7226.

SUPPLEMENTARY INFORMATION:

Procedures for Public Participation: The link to pre-register for the public meeting will be posted on the meeting website. The online meeting will use a webinar format and include American Sign Language interpretation and live captioning.

Members of the public may provide written comments or submit questions to the NBSB at any time via email to NBSB@hhs.gov and are encouraged to provide comments related to the draft recommendations when those are posted. Additionally, the NBSB invites stakeholders to request up to seven minutes to address the Board in-person during the meeting. The Board wishes to hear from experts from relevant biomedical, biodefense, or health industries; faculty or researchers at academic institutions; health professionals, health system experts, or those who work in health care consumer organizations; or experts in state, Tribal, territorial, or local government agencies. Requests to provide remarks to the NBSB during the public meeting must be sent to NBSB@hhs.gov by April 21, 2023. In that request, please provide the speaker's name, title, position, and organization, with a brief description of the topic they will address. Requests to speak to the Board will be approved in consultation with the Board Chairperson and based on time available during the meeting.

Dawn O'Connell,
Assistant Secretary for Preparedness and Response.

[FR Doc. 2023-05274 Filed 3-14-23; 8:45 am]

BILLING CODE 4150-37-P